DEPARTMENT OF DEFENSE

Corps of Engineers

Notice of Availability of the Record of Decision for the Final Environmental Impact Statement for Implementing Test Releases From Fort Peck Dam, Montana

AGENCY: U.S. Army Corps of Engineers, Department of the Army, DoD.

ACTION: Notice.

SUMMARY: The U.S. Army Corps of Engineers (USACE) announces the availability of the Record of Decision (ROD) for the Final Environmental Impact Statement (EIS) for Implementing Test Releases from Fort Peck Dam, Montana. The Final EIS was published in the Federal Register on Friday, September 24, 2021. The USACE Northwestern Division Commander signed the ROD on November 12, 2021.

ADDRESSES: U.S. Army Corps of Engineers, Omaha District, Planning Branch, 1616 Capitol Avenue, Omaha, Nebraska 68102, The ROD is available for viewing on the USACE Omaha District planning website at: https://go.usa.gov/xe58t.

FOR FURTHER INFORMATION CONTACT: Aaron Quinn, U.S. Army Corps of Engineers at (402) 995-2669 or by email at aaron.t.quinn@usace.army.mil.

SUPPLEMENTARY INFORMATION: The EIS was prepared for this project under the authority of the National Environmental Policy Act (42 U.S.C. 4321, et seq.). The EIS assesses the ability of test flows out of Fort Peck Dam, Montana to potentially benefit the Federally endangered pallid sturgeon.

The USACE prepared the EIS as part of its commitment in the January 2018 amendment to its October 2017 Biological Assessment for the Operation of the Missouri River Mainstem Reservoir System, the Operation and Maintenance of the Bank Stabilization and Navigation Project, the Operation of the Kansas River Reservoir System, and the implementation of the Missouri River Recovery Management Plan. This Notice of Availability is published pursuant to the regulations (40 CFR part 1506.6) implementing the provisions of the National Environmental Policy Act (42 U.S.C. 4321, et seq.).

Geoffrey R. Van Epps,
Colonel, Corps of Engineers, Division Commander.

[FR Doc. 2021-27292 Filed 12-16-21; 8:45 am]

BILLING CODE 3720-58-P